FEDERAL COMMUNICATIONS COMMISSION

Notice of Public Information Collection(s) Being Submitted to OMB for Review and Approval

December 8, 2004.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 14, 2005. If you anticipate that you will be submitting comments, but find it difficult to do so within the period of time allowed by this notice, you should advise the contact listed below as soon as possible.

ADDRESSES: Direct all comments to Cathy Williams, Federal Communications Commission, Room 1-C823, 445 12th Street, SW., Washington, DC 20554 or via the Internet to Cathy.Williams@fcc.gov or Kristy L. LaLonde, Office of Management and Budget (OMB), Room 10236 NEOB, Washington, DC 20503, (202) 395-3087 or via the Internet at Kristy_L._LaLonde@omb.eop.gov.

FOR FURTHER INFORMATION CONTACT: For additional information or copy of the information collection(s) contact Cathy Williams at (202) 418-2918 or via the Internet at Cathy.Williams@fcc.gov.

SUPPLEMENTARY INFORMATION: OMB Control Number: 3060-0095.

Title: Multi-Channel Video Programming Distributors Annual Employment Report, FCC Form 395-A.

Form Number: FCC Form 395-A.

Type of Review: Extension of a currently approved collection.

Respondents: Business or other for-profit entities.

Number of Respondents: 2,500.

Estimated Time Per Response: 53 minutes (0.88 hours).

Frequency of Response: Recordkeeping requirement; Annual reporting requirement; Once every five years.

Total Annual Burden: 2,200 hours.

Total Annual Cost: None.

Privacy Impact Assessment: No impact(s).

Needs and Uses: FCC Form 395-A, “The Multi-Channel Video Programming Distributor Annual Employment Report,” is a data collection device used to assess industry employment trends and provide reports to Congress. The report identifies employees by gender and race/ethnicity in fifteen job categories. FCC Form 395-A contains a grid which collects data on full and part-time employees and requests a list of employees by job title, indicating the job category and full or part-time status of the position. Every cable entity with 6 or more full-time employees and all Satellite Master Antenna Television Systems (SMATV) serving 50 or more subscribers and having 6 or more full-time employees must complete FCC Form 395-A in its entirety and file it by September 30 each year. However, cable entities with 5 or fewer full-time employees are not required to file but if they do, they need to complete and file only Sections I, II and VIII of the FCC Form 395-A, and thereafter need not file again unless their employment increases. In addition, cable entities with 6 or more full-time employees will file a Supplemental Investigation Sheet once every 5 years.

On June 4, 2004, the FCC released the Third Report and Order and Fourth Notice of Proposed Rulemaking (3rd R&O), In the Matter of Review of Commission's Broadcast and Cable Equal Employment Opportunity Rules and Policies, MM Docket No. 98-204, FCC 04-103, in which it considers issues relating to the Annual Employment Report forms, including FCC Form 395-A, “The Multi-Channel Video Programming Distributor Annual Employment Report.” In the 3rd R&O, the Commission is adopting revised rules for MVPDs to file FCC Form 395-A, which cable and other MVPDs will use to file annual employment reports. The intent of this 3rd R&O is to update rules for MVPDs to file Form 395-A consistent with new rules adopted in the 2nd R&O. The intent of the Fourth Notice of Proposed Rulemaking is to provide time for cable and other MVPDs and the public to address the issue of whether the Commission should keep these forms confidential after they are filed. With the effective date of the rule revisions adopted in the 3rd R&O, MVPDs and broadcasters must start keeping records of their employees so they can prepare their annual employment reports that were due to be filed on September 30, 2004.

OMB Control Number: 3060-0171.

Title: Section 73.1125, Station Main Studio Location.

Form Number: Not applicable.

Type of Review: Revision of a currently approved collection.

Respondents: Business or other for-profit entities.

Number of Respondents: 72.

Estimated Time Per Response: 0.5-2 hours.

Frequency of Response: On occasion reporting requirement.

Total Annual Burden: 135 hours.

Total Annual Cost: $87,780.00.

Privacy Impact Assessment: No impact(s).

Needs and Uses: On March 14, 2002, the Commission released an Order, Establishment of the Media Bureau and Other Organizational Changes, DA No. 02-577, the Commission amended 47 CFR 73.1125(d) to reflect the reorganization of the existing Cable Services and Mass Media Bureaus into a new Media Bureau. Section 73.1125(d) requires licensees to receive written authority to locate a main studio outside the locations specified in paragraph (a) or (c) of this rule section for the first time must be obtained from the Audio Division, Media Bureau for AM and FM stations, or the Video Division for TV and Class A television stations before the studio may be moved to that location. Where the main studio is already authorized at a location outside those specified in paragraph (a) or (c) of this rule section, and the licensee or permittee desires to specify a new location also located outside those locations, written authority must also be received from the Commission prior to the relocation of the main studio. Authority for these changes may be requested by filing a letter with an explanation of the proposed changes with the appropriate division. Licensees or permittees should also be aware that the filing of such a letter request does not imply approval of the relocation request, because each request is addressed on case-by-case basis. Commercial AM, FM, TV or Class A TV licensees or permittees much pay a fee when filing a request letter under 47 CFR 1.1104.

OMB Control Number: 3060-0390.

Title: Broadcast Station Annual Employment Report, FCC Form 395-B.

Form Number: FCC Form 395-B.

Type of Review: Extension of a currently approved collection.

Respondents: Business or other for-profit entities; Not-for-profit institutions.

Number of Respondents: 14,000.

Estimated Time Per Response: 0.88 hours.

Frequency of Response: Annual reporting requirement.

Total Annual Burden: 12,320 hours.

Total Annual Cost: None.

Privacy Impact Assessment: No impact(s).

Needs and Uses: “The Broadcast Station Annual Employment Report,” is used to assess industry employment trends and provide reports to Congress. Licensees with five or more full-time employees are required to file FCC Form 395-B on or before September 30th of each year. The form is a data collection device used to compile statistics on the workforce employed by broadcast licensees/permittees. The report identifies each staff member by gender and race/ethnicity in each of the nice major job categories. On June 4, 2004, the FCC released the Third Report and Order and Fourth Notice of Proposed Rulemaking (3rd R&O), In the Matter of Review of the Commission's Broadcast and Cable Equal Employment Opportunity Rules and Policies, MM Docket No. 98-204, FCC 04-103, in which it considers issues relating to the Annual Employment Report forms, including FCC Form 395-B, “The Broadcast Station Annual Employment Report.” In the 3rd R&O, the Commission is adopting revised rules requiring broadcasters and multi-channel video programming distributors (MVPDs) to file annual employment reports. Radio and television broadcasters will use FCC Form 395-B to file annual employment reports. The intent of this 3rd R&O is to reinstate and update requirements for broadcasters and MVPDs to file annual employment reports. The intent of the Fourth Notice of Proposed Rulemaking is to provide time for MVPDs, broadcast licensees, and the public to address the issue of whether the Commission should keep these forms confidential after they are filed. With the effective date of the rule revisions adopted in the 3rd R&O, MVPDs, and broadcasters must start keeping records of their employees so they can prepare their annual employment reports that was due to be filed on or before September 30, 2004.

Federal Communications Commission.
Marlene H. Dortch,
Secretary.

[FR Doc. 04-27436 Filed 12-14-04; 8:45 am]

BILLING CODE 6712-01-P